DEPARTMENT OF THE INTERIOR

National Park Service

Northeast Region; Notice of Termination of an Environmental Impact Statement, Intent To Prepare an Environmental Assessment, and To Hold Public Meetings

In accordance with the National Environmental Policy Act of 1969 (Pub. L.91-109 section 102(c)) supportive Council on Environmental Quality regulations, Department of the Interior and National Park Service (NPS) guidance documents, the NPS is terminating an Environmental Impact Statement (EIS) as noticed in the Federal Register, March 13, 2002 (11363) for a special resource study of an Upper Housatonic Valley National Heritage Area, authorized by Public Law 106-470. It was apparent that an EIS was not necessary as there was little or no potential for significant impact to the human environment of the study area. Coincident with this termination notice, and pursuant to the same authorization and guidance, the NPS is hereby noticing its intent to prepare an Environmental Assessment (EA) for the Upper Housatonic Valley study area which encompasses a watershed containing eight municipalities in Litchfield County, Connecticut and eighteen municipalities in Berkshire County, Massachusetts. The purpose of the study and EA is to determine if this area can become a National Heritage Area. If the National Park Service determines that the Upper Housatonic Valley has an assemblage of natural, historic, and cultural resources that together represent distinctive aspects of American heritage worthy of recognition, conservation, interpretation, and continuing use, Congress could designate it as a National Heritage Area. The study will identify alternative interpretive theme options and partnership arrangements to manage the heritage area. NPS would not administer or manage such an area. The alternatives will describe: Proposed heritage area boundaries; evaluations of significance, suitability, and feasibility; characteristics of the proposed management entity; participation of State and local governments and private and public organizations; anticipated levels of public use; as well as consider economic and social benefits of public use as the principal aspect of potential impact to the human environment within and about the study area.

The National Park Service will hold public meetings in December, 2002 (Date, Time, and Place to be announced coincident with noticing the availability of the study and EA in draft) which will provide opportunity for public comment on the study and EA. The purpose of these meetings is to obtain both written and verbal comments concerning the future use, stewardship and protective management of an Upper Housatonic Valley National Heritage Area.

Additional information about the study and EA is available from James O'Connell, Study Project Manager, National Park Service Boston Support Office, 15 State Street, Boston, Massachusetts 02109-3572, (617) 223-5222. Those persons who wish to comment verbally or in writing, or who require further information, should contact Mr. O'Connell.

After public and interagency review of the document in draft, comments will be considered, the EA portion of the study will be accordingly finalized and a NEPA closure document in the form of a Finding of No Significant Impact will be prepared, so that the study can be finalized in a report to Congress. Should any unresolvable controversy arise or significant environmental impacts unknown at this time be realized, the steps of closure and study report completion could be forestalled by necessity to process a full environmental impact statement.

Sandra Corbett,
Superintendent, Boston Support Office.

[FR Doc. 02-27245 Filed 10-28-02; 8:45 am]

BILLING CODE 4310-70-P